NUCLEAR REGULATORY COMMISSION

10 CFR Part 72

[NRC-2017-0138]

RIN 3150-AK05

List of Approved Spent Fuel Storage Casks: TN Americas LLC, Standardized NUHOMS® Horizontal Modular Storage System, Certificate of Compliance No. 1004, Renewal of Initial Certificate and Amendment Nos. 1 Through 11 and 13, Revision 1, and 14; Corrections

AGENCY: Nuclear Regulatory Commission.

ACTION: Correcting amendments.

SUMMARY: The U.S. Nuclear Regulatory Commission (NRC) published a direct final rule in the Federal Register on September 27, 2017, which amended its spent fuel storage regulations by revising the Standardized NUHOMS® Horizontal Modular Storage System (NUHOMS® System) listing within the “List of approved spent fuel storage casks” to renew, for an additional 40-year period, the initial certificate and Amendment Nos. 1 through 11 and 13, Revision 1, and Amendment No. 14 of Certificate of Compliance (CoC) No. 1004. That direct final rule was effective on December 11, 2017. The technical specifications (TS) for the NUHOMS® System, Renewed Amendments No. 11, Revision 1, and No. 13, Revision 1 included an incorrect title in Figure 1-15. The purpose of this action is to correct this minor editorial and non-substantive error to Figure 1-15 for both Renewed Amendments No. 11, Revision 1, and No. 13, Revision 1.

DATES: The correction is effective January 24, 2018.

ADDRESSES: Please refer to Docket ID NRC-2017-0138 when contacting the NRC about the availability of information for this action. You may obtain publicly-available information related to this action using any of the following methods:

• Federal Rulemaking website: Go to http://www.regulations.gov and search for Docket ID NRC-2017-0138. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

FOR FURTHER INFORMATION CONTACT: Christian Jacobs, Office of Nuclear Material Safety and Safeguards, U.S. Nuclear Regulatory Commission, Washington, DC 20555-0001; telephone: 301-415-6825; email: Christian.Jacobs@nrc.gov.

SUPPLEMENTARY INFORMATION: The NRC published a direct final rule in the Federal Register on September 27, 2017 (82 FR 44879), which revised the NUHOMS® System listing within the “List of approved spent fuel storage casks” to renew, for an additional 40-year period, the initial certificate and Amendment Nos. 1 through 11 and 13, Revision 1, and Amendment No. 14 of CoC No. 1004. The direct final rule was effective on December 11, 2017. The TSs for the NUHOMS® System, Renewed Amendments No. 11, Revision 1, and No. 13, Revision 1, include an incorrect title in Figure 1-15. Specifically, the title of Figure 1-15 for Amendment No. 11, Revision 1, and Amendment No. 13, Revision 1, reads “Heat Load Zoning Configuration Number 5 for 24PTH-S and 24PTH-L DSCs (with or without Control Components)⁽²⁾” instead of “Heat Load Zoning Configuration Number 5 for 24PTH-S-LC DSC (with or without Control Components)⁽²⁾”.

Figure 1-15 was first included in the TSs for CoC No. 1004 after the NRC's review and approval in Amendment No. 8 (ADAMS Accession No. ML053390278). During the revision process for the 13 amendments that became effective on April 25, 2017 (82 FR 17749), the title of Figure 1-15 was unintentionally changed in the technical specifications for Amendment No. 11, Revision 1, and Amendment No. 13, Revision 1, from “Heat Load Zoning Configuration Number 5 for 24PTH-S-LC DSC (with or without Control Components)⁽²⁾” to “Heat Load Zoning Configuration Number 5 for 24PTH-S and 24PTH-L DSCs (with or without Control Components)⁽²⁾”. This error was carried forward to Renewed Amendments No. 11, Revision 1, and No. 13, Revision 1. The NRC is correcting the title of Figure 1-15 in the technical specifications for both of these amendments back to the original, intended title, which is “Heat Load Zoning Configuration Number 5 for 24PTH-S-LC DSC (with or without Control Components)⁽²⁾”. The Renewed Amendments No. 11, Revision 1, and No. 13, Revision 1, listings within “List of approved spent fuel storage casks” in § 72.214 of title 10 of the Code of Federal Regulations (10 CFR) are being revised to note that they have been corrected.

Rulemaking Procedure

Under the Administrative Procedure Act (5 U.S.C. 553(b)), an agency may waive the normal notice and comment requirements if it finds, for good cause, that they are impracticable, unnecessary, or contrary to the public interest. As authorized by 5 U.S.C. 553(b)(3)(B), the NRC finds good cause to waive notice and opportunity for comment on the amendments because they will have no substantive impact and is of a minor and administrative nature dealing with a correction to a CFR section related to procedure and practice. Specifically, this amendment is to correct a minor editorial and non-substantive error. This amendment does not require action by any person or entity regulated by the NRC. Also, this final rule does not change the substantive responsibilities of any person or entity regulated by the NRC. Accordingly, for the reasons stated, the NRC finds, pursuant to 5 U.S.C. 553(d)(3), that good cause exists to make this rule effective upon publication.

List of Subjects in 10 CFR Part 72

Administrative practice and procedures, Criminal penalties, Hazardous waste, Indians, Intergovernmental relations, Manpower training programs, Nuclear energy, Nuclear materials, Occupational safety and health, Penalties, Radiation protection, Reporting and recordkeeping requirements, Security measures, Spent fuel, Whistleblowing.

For the reasons set out in the preamble and under the authority of the Atomic Energy Act of 1954, as amended; the Energy Reorganization Act of 1974, as amended; the Nuclear Waste Policy Act of 1982, as amended; and 5 U.S.C. 552 and 553; the NRC is adopting the following amendment to 10 CFR part 72:

PART 72—LICENSING REQUIREMENTS FOR THE INDEPENDENT STORAGE OF SPENT NUCLEAR FUEL, HIGH-LEVEL RADIOACTIVE WASTE, AND REACTOR-RELATED GREATER THAN CLASS C WASTE

1. The authority citation for part 72 continues to read as follows:

Authority: Atomic Energy Act of 1954, secs. 51, 53, 57, 62, 63, 65, 69, 81, 161, 182, 183, 184, 186, 187, 189, 223, 234, 274 (42 U.S.C. 2071, 2073, 2077, 2092, 2093, 2095, 2099, 2111, 2201, 2210e, 2232, 2233, 2234, 2236, 2237, 2238, 2273, 2282, 2021); Energy Reorganization Act of 1974, secs. 201, 202, 206, 211 (42 U.S.C. 5841, 5842, 5846, 5851); National Environmental Policy Act of 1969 (42 U.S.C. 4332); Nuclear Waste Policy Act of 1982, secs. 117(a), 132, 133, 134, 135, 137, 141, 145(g), 148, 218(a) (42 U.S.C. 10137(a), 10152, 10153, 10154, 10155, 10157, 10161, 10165(g), 10168, 10198(a)); 44 U.S.C. 3504 note.

2. In § 72.214, Certificate of Compliance 1004 is revised to read as follows:

§ 72.214 List of approved spent fuel storage casks.

* * * * *

Certificate Number: 1004.

Initial Certificate Effective Date: January 23, 1995, superseded by Initial Certificate, Revision 1, on April 25, 2017, superseded by Renewed Initial Certificate, Revision 1, on December 11, 2017.

Initial Certificate, Revision 1, Effective Date: April 25, 2017.

Renewed Initial Certificate, Revision 1, Effective Date: December 11, 2017.

Amendment Number 1 Effective Date: April 27, 2000, superseded by Amendment Number 1, Revision 1, on April 25, 2017, superseded by Renewed Amendment Number 1, Revision 1, on December 11, 2017.

Amendment Number 1, Revision 1, Effective Date: April 25, 2017.

Renewed Amendment Number 1, Revision 1, Effective Date: December 11, 2017.

Amendment Number 2 Effective Date: September 5, 2000, superseded by Amendment Number 2, Revision 1, on April 25, 2017, superseded by Renewed Amendment Number 2, Revision 1, on December 11, 2017.

Amendment Number 2, Revision 1, Effective Date: April 25, 2017.

Renewed Amendment Number 2, Revision 1, Effective Date: December 11, 2017.

Amendment Number 3 Effective Date: September 12, 2001, superseded by Amendment Number 3, Revision 1, on April 25, 2017, superseded by Renewed Amendment Number 3, Revision 1, on December 11, 2017.

Amendment Number 3, Revision 1, Effective Date: April 25, 2017.

Renewed Amendment Number 3, Revision 1, Effective Date: December 11, 2017.

Amendment Number 4 Effective Date: February 12, 2002, superseded by Amendment Number 4, Revision 1, on April 25, 2017, superseded by Renewed Amendment Number 4, Revision 1, on December 11, 2017.

Amendment Number 4, Revision 1, Effective Date: April 25, 2017.

Renewed Amendment Number 4, Revision 1, Effective Date: December 11, 2017.

Amendment Number 5 Effective Date: January 7, 2004, superseded by Amendment Number 5, Revision 1, on April 25, 2017, superseded by Renewed Amendment Number 5, Revision 1, on December 11, 2017.

Amendment Number 5, Revision 1, Effective Date: April 25, 2017.

Renewed Amendment Number 5, Revision 1, Effective Date: December 11, 2017.

Amendment Number 6 Effective Date: December 22, 2003, superseded by Amendment Number 6, Revision 1, on April 25, 2017, superseded by Renewed Amendment Number 6, Revision 1, on December 11, 2017.

Amendment Number 6, Revision 1, Effective Date: April 25, 2017.

Renewed Amendment Number 6, Revision 1, Effective Date: December 11, 2017.

Amendment Number 7 Effective Date: March 2, 2004, superseded by Amendment Number 7, Revision 1, on April 25, 2017, superseded by Renewed Amendment Number 7, Revision 1, on December 11, 2017.

Amendment Number 7, Revision 1, Effective Date: April 25, 2017.

Renewed Amendment Number 7, Revision 1, Effective Date: December 11, 2017.

Amendment Number 8 Effective Date: December 5, 2005, superseded by Amendment Number 8, Revision 1, on April 25, 2017, superseded by Renewed Amendment Number 8, Revision 1, on December 11, 2017.

Amendment Number 8, Revision 1, Effective Date: April 25, 2017.

Renewed Amendment Number 8, Revision 1, Effective Date: December 11, 2017.

Amendment Number 9 Effective Date: April 17, 2007, superseded by Amendment Number 9, Revision 1, on April 25, 2017, superseded by Renewed Amendment Number 9, Revision 1, on December 11, 2017.

Amendment Number 9, Revision 1, Effective Date: April 25, 2017.

Renewed Amendment Number 9, Revision 1, Effective Date: December 11, 2017.

Amendment Number 10 Effective Date: August 24, 2009, superseded by Amendment Number 10, Revision 1, on April 25, 2017, superseded by Renewed Amendment Number 10, Revision 1, on December 11, 2017.

Amendment Number 10, Revision 1, Effective Date: April 25, 2017.

Renewed Amendment Number 10, Revision 1, Effective Date: December 11, 2017.

Amendment Number 11 Effective Date: January 7, 2014, superseded by Amendment Number 11, Revision 1, on April 25, 2017, superseded by Renewed Amendment Number 11, Revision 1, on December 11, 2017.

Amendment Number 11, Revision 1, Effective Date: April 25, 2017.

Renewed Amendment Number 11, Revision 1, Effective Date: December 11, 2017, as corrected (ADAMS Accession No. ML18018A043).

Amendment Number 12 Effective Date: Amendment not issued by the NRC.

Amendment Number 13 Effective Date: May 24, 2014, superseded by Amendment Number 13, Revision 1, on April 25, 2017, superseded by Renewed Amendment Number 13, Revision 1, on December 11, 2017.

Amendment Number 13, Revision 1, Effective Date: April 25, 2017.

Renewed Amendment Number 13, Revision 1, Effective Date: December 11, 2017, as corrected (ADAMS Accession No. ML18018A100).

Amendment Number 14 Effective Date: April 25, 2017, superseded by Renewed Amendment Number 14 on December 11, 2017.

Renewed Amendment Number 14 Effective Date: December 11, 2017.

SAR Submitted by: Transnuclear, Inc.

SAR Title: Final Safety Analysis Report for the Standardized NUHOMS® Horizontal Modular Storage System for Irradiated Nuclear Fuel.

Docket Number: 72-1004.

Certificate Expiration Date: January 23, 2015.

Renewed Certificate Expiration Date: January 23, 2055.

Model Number: NUHOMS®-24P, -24PHB, -24PTH, -32PT, -32PTH1, -37PTH, -52B, -61BT -61BTH, and -69BTH.

* * * * *

Dated at Rockville, Maryland, this 19th day of January 2018.
For the Nuclear Regulatory Commission.
Pamela J. Shepherd-Vladimir,
Acting Chief, Regulatory Analysis and Rulemaking Support Branch, Division of Rulemaking, Office of Nuclear Material Safety and Safeguards.

[FR Doc. 2018-01278 Filed 1-23-18; 8:45 am]

BILLING CODE 7590-01-P